DEPARTMENT OF ENERGY

Federal Energy Regulatory Commission

Combined Notice of Filings

March 31, 2020.

Take notice that the Commission has received the following Natural Gas Pipeline Rate and Refund Report filings:

Docket Numbers: RP18-922-005.

Applicants: Trailblazer Pipeline Company LLC.

Description: Compliance filing TPC RP18-922 Stipulation and Agreement Compliance Filing to be effective 1/1/2019.

Filed Date: 3/27/20.

Accession Number: 20200327-5141.

Comments Due: 5 p.m. ET 4/8/20.

Docket Numbers: RP20-688-000.

Applicants: Algonquin Gas Transmission, LLC.

Description: § 4(d) Rate Filing: Negotiated Rate—Amended Macquarie 510932 to be effective 4/1/2020.

Filed Date: 3/27/20.

Accession Number: 20200327-5026.

Comments Due: 5 p.m. ET 4/8/20.

Docket Numbers: RP20-689-000.

Applicants: El Paso Natural Gas Company, L.L.C.

Description: § 4(d) Rate Filing: Negotiated Rate Update Filing (Conoco Apr 20) to be effective 4/1/2020.

Filed Date: 3/27/20.

Accession Number: 20200327-5040.

Comments Due: 5 p.m. ET 4/8/20.

Docket Numbers: RP20-690-000.

Applicants: Northern Border Pipeline Company.

Description: § 4(d) Rate Filing: Compressor Usage Surcharge 2020 to be effective 5/1/2020.

Filed Date: 3/27/20.

Accession Number: 20200327-5043.

Comments Due: 5 p.m. ET 4/8/20.

Docket Numbers: RP20-691-000.

Applicants: Kern River Gas Transmission Company.

Description: Annual Gas Compressor Fuel Report of Kern River Gas Transmission Company under RP20-691.

Filed Date: 3/27/20.

Accession Number: 20200327-5117.

Comments Due: 5 p.m. ET 4/8/20.

Docket Numbers: RP20-692-000.

Applicants: Pine Needle LNG Company, LLC.

Description: § 4(d) Rate Filing: Tariff Clean-Up to be effective 4/27/2020.

Filed Date: 3/27/20.

Accession Number: 20200327-5132.

Comments Due: 5 p.m. ET 4/8/20.

Docket Numbers: RP20-693-000.

Applicants: Transcontinental Gas Pipe Line Company, LLC.

Description: § 4(d) Rate Filing: Tariff Clean Up Filing to be effective 4/27/2020.

Filed Date: 3/27/20.

Accession Number: 20200327-5299.

Comments Due: 5 p.m. ET 4/8/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 31, 2020.
Nathaniel J. Davis, Sr.,
Deputy Secretary.

[FR Doc. 2020-07198 Filed 4-6-20; 8:45 am]

BILLING CODE 6717-01-P